DEPARTMENT OF COMMERCE

Submission for OMB Review; Comment Request

DoC has submitted to the Office of Management and Budget (OMB) for clearance the following proposal for collection of information under provisions of the Paperwork Reduction Act (44 U.S.C. chapter 35).

Agency: Minority Business Development Agency.

Title: Performance Database (formerly the Business Development Report (BDR) System), Phoenix (formerly Automated Business Enterprise Locator System (ABELS)) and the Opportunity Database Systems.

Agency Form Number: None.

OMB Approval Number: Formerly 0640-0002.

Type of Request: Revision, with change, of a previously approved collection for which approval has expired.

Burden: 50, 1050 and 1,570 hours annually, respectively.

Number of Respondents: 50, 1,050 and 1,570, respectively.

Avg. Hours per Response: 3-15 minutes.

Needs and Uses: The purpose of the Performance, Phoenix and Opportunity databases is to provide an electronic system for (1) entering the accomplishments (Performance) of MBDA's funded organizations, (2) entering minority-owned businesses doing business in the United States (Phoenix), and matching contract opportunities with eligible minority companies listed in the Phoenix database (Opportunity).

Specific uses of the on-line Performance Database include:

The documentation of actual performance accomplishments of each funded organization compared with stated goals in its cooperative agreement with MBDA. The Performance database permits tracking of each funded organization's goals using a number of general and specific variables. The flexibility of the database permits new variables to be added as needed.

The verification of the summary performance accomplishments cited in narrative reports. Based on the results, performance data and other qualitative information obtained during MBDA quarterly monitoring will determine whether a specific cooperative agreement should be terminated or other actions are needed to improve performance.

The advantage of daily tracking of performance is that it will enable managers not only to terminate non-performing funded organizations but, more importantly, to address performance problems early in their development.

Identifies minority business clients receiving Agency-sponsored business development services in the form of management and technical assistance, the kind of assistance each receives, and the impact of that assistance on the growth and profitability of the client firms.

The preparation of special reports analyzing program activities and services by business types, industry trends, business starts, geographic profiles, successful capital and marketing opportunities, and other program elements.

The system permits client identification using a unique computer-assigned identifier for each funded organization. This identification is related to all client data fields. Number of clients assisted, types of assistance, number of hours of assistance, dollar amounts of loans, bonds and contracts, as well as a number of other variables are available for analysis on each client and funded organization.

MBDA requires this information to monitor, evaluate, and plan Agency programs which effectively enhance the development of the minority business sector.

Using information collected, MBDA produces ad hoc and recurring reports on its funded organizations, client services activities and accomplishments. Because MBDA's major funded activity is client service, the reports generated are a primary agency reporting and planning mechanism.

The purpose of this collection will be to establish a framework for assessing and evaluating projects' performance.

The Phoenix database constitutes the Minority Business Development Agency's (MBDA) listing of minority-owned businesses doing business in the United States. The Opportunity database contains public and private contract and other opportunities. The system matches contract opportunities with eligible minority companies listed in the Phoenix database. The information entered in the Phoenix database will be used to assist minority enterprises with marketing of goods and services.

The purpose for collecting this information is to enable entities with an interest in contracting with a minority firm to identify potential minority contractors according to various criteria. MBDA uses the Phoenix database in conjunction with the Opportunity database to refer listed minority companies contracts and other business opportunities via email and fax. The Opportunity database matches contract opportunities with eligible minority companies listed in the Phoenix database. Specific information on the Opportunity form, such as “key words” and NAICS codes, are compared with like information contained in the Phoenix database of minority companies. When a match is made, the eligible minority companies will be notified of any contract opportunity and the offeror of the opportunity will be notified of any eligible minority companies. These systems reside on Y2K (year 2000) compliant platforms connected to the service-provider network via the Internet.

Affective Public: Individuals, businesses or other for-profit and not-for-profit institutions.

Frequency: Annually.

Respondents Obligation: Voluntary.

OMB Desk Officer: Mr. David Rostker (202) 395-3895.

Copies of the above information collection proposal can be obtained by calling or writing Diana Hynek , Departmental Paperwork Clearance Officer, (202) 482-3129, U.S. Department of Commerce, Electronic Government Division, Office of the Chief Information Officer, Room 6625, 14th and Constitution Avenue, NW., Washington, DC 20230.

Written comments and recommendations for the proposed information collection should be sent within 30 days of publication of this notice to Dave Rostker at OMB.

Dated: November 5, 2002.
Madeleine Clayton,
Management Analyst, Office of the Chief Information Officer.

[FR Doc. 02-29202 Filed 11-15-02; 8:45 am]

BILLING CODE 3510-21-P